DEPARTMENT OF THE INTERIOR

Bureau of Ocean Energy Management

[Docket No. BOEM-2018-0045]

Commercial Leasing for Wind Power Development on the Outer Continental Shelf (OCS) Offshore California—Call for Information and Nominations (Call)

AGENCY: Bureau of Ocean Energy Management, Interior.

ACTION: Call for Information and Nominations (hereinafter referred to as “Call” or “notice”) for Commercial Leasing for Wind Power Development on the OCS offshore California.

SUMMARY: The Bureau of Ocean Energy Management (BOEM) invites the submission of information and nominations for commercial wind leases that would allow a lessee to propose the construction of a wind energy project on the OCS offshore California, and to develop one or more projects, if approved, after further environmental review. This is not a leasing announcement, but the Call Areas or portions of Call Areas described may be available for future leasing. BOEM will use responses to this Call to gauge specific interest in acquiring commercial wind leases in some or all of the Call Areas. Any nominations submitted in response to this Call should provide detailed and specific information addressing the requirements described in the section of this notice entitled, “Required Nomination Information.”

This Call also requests comments and information regarding site conditions, resources, and multiple uses in close proximity to, or within, the Call Areas that would be relevant to BOEM's review of the nominations or to any subsequent decision whether to offer all or part of the Call Areas for commercial wind leasing. In providing this information, please refer to the section of this Call entitled, “Requested Information from Interested or Affected Parties.”

DATES: BOEM must receive nominations describing your interest in one or more, or any portion of, the Call Areas, by a postmarked date of January 28, 2019 for your nomination to be considered. BOEM requests comments or submissions of information to be postmarked or delivered by this same date.

ADDRESSES: If you are submitting a nomination for a lease area in response to this Call, please submit your nomination, following the “Required Nomination Information” section below, to the following address: BOEM, Office of Strategic Resources, 760 Paseo Camarillo (Suite 102), Camarillo, California 93010. In addition to a paper copy of the nomination, include an electronic copy of the nomination on a data storage device. BOEM will list the parties that submitted nominations and the location of the proposed lease areas (i.e., OCS blocks nominated) on the BOEM website after the comment period has closed.

Comments and other information may be submitted by either of the following two methods:

1. Federal eRulemaking Portal: http://www.regulations.gov. In the entry entitled, “Enter Keyword or ID,” enter BOEM-2018-0045 and then click “search.” Follow the instructions to submit public comments and view supporting and related materials available for this notice.

2. U.S. Postal Service or other delivery service. Send your comments and information to the following address: Bureau of Ocean Energy Management, Office of Strategic Resources, 760 Paseo Camarillo (Suite 102), Camarillo, California 93010.

BOEM will post all responses on http://www.regulations.gov. If you wish to protect the confidentiality of your nominations or comments, clearly mark the relevant sections and request that BOEM treat them as confidential. Please label privileged or confidential information “Contains Confidential Information,” and consider submitting such information as a separate attachment. Treatment of confidential information is addressed in the section of this Call entitled, “Protection of Privileged or Confidential Information.” Information that is not labeled as privileged or confidential will be regarded by BOEM as suitable for public release.

FOR FURTHER INFORMATION CONTACT: Jean Thurston, BOEM California Intergovernmental Renewable Energy Task Force Coordinator, BOEM, Office of Strategic Resources, 760 Paseo Camarillo (Suite 102), Camarillo, California 93010, (805) 384-6303 or jean.thurston@boem.gov.

SUPPLEMENTARY INFORMATION:

Authority

This Call is published pursuant to section 8(p)(3) of the Outer Continental Shelf Lands Act (“OCSLA”), 43 U.S.C. 1337(p)(3), which was added by section 388 of the Energy Policy Act of 2005 (EPAct), as well as the implementing regulations at 30 CFR part 585.

Call Areas

The three (3) geographically distinct Call Areas described in this notice are located on the OCS offshore California and are the Humboldt Call Area on the north coast and the Morro Bay Call Area and the Diablo Canyon Call Area on the central coast. These areas include 85 whole OCS blocks and 573 partial blocks in total, and comprise approximately 1,073 square statute miles (mi) (687,823 acres). If BOEM determines that there is competitive interest in these areas, BOEM will identify which areas will be subject to an environmental analysis and consideration for leasing as part of the area identification portion of the competitive leasing process. A detailed description of the areas and how they were developed is described in the section of this Call entitled, “Description of the Area.”

Purpose of the Call for Information and Nominations

OCSLA requires BOEM to award leases competitively, unless BOEM determines that there is no competitive interest (43 U.S.C. 1337(p)(3)). On January 14, 2016, BOEM received an unsolicited lease request from Trident Winds, LLC (Trident Winds) for the development of a wind energy project offshore Morro Bay, on the central coast of California. On August 18, 2016, BOEM published the Potential Commercial Leasing for Wind Power on the Outer Continental Shelf—Request for Interest (“RFI”) in the Federal Register to determine if there was competitive interest in the area described by Trident Winds. A copy of BOEM's RFI is available online at: https://www.boem.gov/81-FR-55228/. In response to the RFI, BOEM received one additional nomination of competitive interest in developing wind energy in the area proposed by Trident Winds.

On September 11, 2018, BOEM received an unsolicited lease request from the Redwood Coast Energy Authority (RCEA) for the development of a wind energy project offshore Humboldt County. RCEA submitted its request after issuing a Request for Qualifications (RFQ) on February 1, 2018, to select one or more qualified entities to enter into a public-private partnership pursuant to their activities to pursue developing an offshore wind energy project off Humboldt County. The RCEA received responses on their RFQ from six entities, and in April 2018 selected partners for the project. The area requested by RCEA in its unsolicited lease request is included in the Humboldt Call Area.

BOEM will use responses to this Call to confirm competitive interest in the portions of the Call Areas for which BOEM already has information, as well as to solicit new expressions of interest in obtaining a lease within the Call Area(s).

BOEM will make a formal determination of competitive interest after reviewing the nominations and comments provided in response to this Call. Depending on the nominations and comments received, BOEM may proceed with the competitive leasing process as set forth in 30 CFR 585.211 through 585.225; may proceed with the noncompetitive leasing process as set forth in 30 CFR 585.231 and 232; or may decide not to proceed with leasing. BOEM may also determine that some of the Call Areas or portions of Call Areas have competitive interest while other area do not. For instance, BOEM may determine that there is no competitive interest in the Humboldt Call Area and that there is competitive interest in the Morro Bay and Diablo Canyon Call Areas. In this case, BOEM could proceed with the noncompetitive leasing process for the Humboldt Call Area and with the competitive leasing process for the Morro Bay and Diablo Canyon Call Areas. We explain these processes in detail in the section of this notice entitled, “BOEM's Planning and Leasing Process.”

We note that a lease, whether issued through a competitive or noncompetitive process, does not grant the lessee the right to construct any facilities on the lease. The lease only grants the lessee the exclusive right to submit site assessment and construction and operations plans to BOEM, which BOEM must first approve before the lessee may proceed to the next stages of the process (30 CFR 585.600 and 585.601).

Whether competitive or noncompetitive, the leasing process will include subsequent opportunities for public input, and any proposed actions will be reviewed thoroughly for potential environmental impacts and multiple use conflicts. BOEM has not yet determined which area(s) may be offered for lease, if any, has/have not yet been determined, and may include less than the total footprint of any Call Areas or may offer no leasing at all.

1 Background

1.1 Statutory Authorization

Section 8(p) of OCSLA, authorizes the Secretary of the Interior (“Secretary”) to grant leases, easements, or rights-of-way (ROWs) on the OCS for activities not previously authorized by the OCS Lands Act or other applicable law. Under subsection 8(p)(1)(C), the Secretary of the Interior may issue leases for activities that produce or support production, transportation, or transmission of energy from sources other than oil or gas, including renewable energy sources. Section 8(p) also requires the Secretary to issue any necessary regulations to carry out this authority. Regulations were issued for this purpose on April 29, 2009, and are codified in BOEM regulations at 30 CFR part 585. The Secretary has delegated the authority to issue leases, easements, and ROWs to the Director of BOEM.

1.2 Offshore Wind Energy Planning Efforts in California

BOEM appreciates the importance of coordinating its planning endeavors with other OCS users, relevant Federal and state agencies, and tribes. BOEM and the State of California, through the leadership of the California Energy Commission, have engaged in a collaborative, data-based offshore wind energy planning process to foster coordinated and informed decisions about California's shared ocean resources and the many users who depend on them. This outreach has consisted of numerous public meetings, webinars, and briefings with coastal communities, fishing communities, federally and non-federally recognized tribes, state and Federal agencies, academia and scientists, environmental non-governmental organizations (NGOs), and the offshore renewable energy industry. The summary report on this outreach can be viewed at: https://www.boem.gov/California-Outreach-Summary-Report/. Additional information gathered by BOEM and the State of California during the offshore wind energy planning process, including maps and spatially represented data, is available online at: https://caoffshorewind.databasin.org/.

1.3 BOEM California Intergovernmental Renewable Energy Task Force

At the request of Governor Brown, BOEM established an Intergovernmental Renewable Energy Task Force (Task Force) with California in 2016 to facilitate coordination among relevant Federal agencies and affected state, local, and tribal governments throughout the leasing process. The first Task Force meeting was held on October 13, 2016, and a second Task Force meeting was held on September 17, 2018. Meeting materials are available on the BOEM website at: https://www.boem.gov/California/.

1.4 Actions Taken by the State of California in Support of Renewable Energy Development

The State of California established a Renewables Portfolio Standard (RPS) in 2002. California expanded the RPS in 2015 through passage of Senate Bill 350, the Clean Energy and Pollution Reduction Act, and further expanded the RPS in 2018 through passage of Senate Bill (SB) 100. SB 100 increased the state's RPS requirements for powering the electricity system from renewable energy resources. The legislation requires 50 percent powering from renewable resources by 2025, 60 percent by 2030, and 100 percent powering from zero-carbon resources by December 31, 2045, for retail sales of electricity to California end-use customers and electricity procured to serve state agencies. Additional information about California's RPS is available at: www.cpuc.ca.gov/RPS_Homepage. The full text of SB 100 is available at: https://leginfo.legislature.ca.gov/faces/billNavClient.xhtml?bill_id=201720180SB100.

2 BOEM's Environmental Review Process

Before deciding whether and where leases may be issued within the Call Areas, BOEM will prepare an environmental assessment (EA) under the National Environmental Policy Act (NEPA) and conduct consultations to consider the environmental consequences associated with issuing commercial wind leases. As the issuance of a lease does not grant the right to construct any facilities within the lease, the EA will consider reasonably foreseeable environmental consequences associated with leasing, site assessment and site characterization activities (including geophysical, geotechnical, archaeological, and biological surveys). If BOEM issues a lease and the lessee proposes the construction and operation of an offshore wind energy facility, BOEM would consider the environmental effects of such construction and operation under a separate, project-specific NEPA process, which would include additional opportunities for public involvement. BOEM would also conduct consultations under other authorities, including, but not limited to, the Coastal Zone Management Act (CZMA), Endangered Species Act (ESA), the Magnuson-Stevens Fishery Conservation and Management Act, Section 106 of the National Historic Preservation Act (NHPA), and Executive Order 13175 (“Consultation and Coordination with Tribal Governments”).

3 BOEM's Planning and Leasing Process

3.1 Determination of Competitive Interest

43 U.S.C. 1337(p)(3) states that “the Secretary shall issue a lease, easement, or right-of-way . . . on a competitive basis unless the Secretary determines after public notice of a proposed lease, easement, or right-of-way that there is no competitive interest.” Accordingly, BOEM must first determine whether there is competitive interest in acquiring a lease within the Call Area to develop offshore wind energy. At the conclusion of the comment period for this Call, BOEM will review the nominations received and determine if competitive interest exists in any of the call areas.

For areas with two or more valid nominations, BOEM may consider proceeding with competitive leasing as described in the section of this Call entitled, “Competitive Leasing Process.” For areas where BOEM determines that there is only one interested entity, BOEM may consider proceeding with noncompetitive leasing, as described in the section entitled “Noncompetitive Leasing Process.”

If BOEM determines that competitive interest exists and BOEM identifies those areas as appropriate to lease, BOEM may hold a competitive lease sale on any or all portions of the Call Area. In the event BOEM holds such a lease sale, all qualified bidders, including those bidders which did not submit a nomination in response to this Call, will be able to participate in the lease sale.

BOEM will not issue any leases until it has completed all required consultations and environmental analysis, which include the opportunity for public comment. Furthermore, BOEM reserves the right not to lease certain nominated areas, or modify such areas from their original, proposed form before offering them for lease.

3.2 Competitive Leasing Process

BOEM will follow the steps required by 30 CFR 585.211 through 585.225 if it decides to proceed with the competitive leasing process for any areas after receiving responses and nominations for this Call.

(1) Area Identification: After determining the existence of competitive interest based on the information it receives in response to this Call, BOEM will identify the area(s) that will be subject to environmental analysis and consideration for leasing. Any area identified will constitute a Wind Energy Area (WEA) and will be subject to environmental analysis as described above, conducted in consultation with appropriate Federal agencies, states, local governments, tribes, and other interested parties.

(2) Proposed Sale Notice (PSN): If BOEM decides to proceed with a competitive lease sale within any WEA after completion of its environmental analysis, BOEM will publish a PSN in the Federal Register with a comment period of 60 days. The PSN will describe any area BOEM intends to offer for leasing, the proposed conditions of a lease sale, the proposed auction format, and the lease instrument, including lease addenda. Additionally, the PSN will describe the criteria and process for evaluating bids in the lease sale.

(3) Final Sale Notice (FSN): After considering the comments on the PSN, if BOEM decides to proceed with a competitive lease sale, it will publish the FSN in the Federal Register at least 30 days before the date of the lease sale.

(4) Bid Submission and Evaluation: Following publication of the FSN in the Federal Register, BOEM would offer the lease areas through a competitive sale process, using procedures specified in the FSN. The conduct of the sale, including bids and bid deposits, would be reviewed for technical and legal adequacy. BOEM will ensure that bidders have complied with all applicable regulations. BOEM reserves the right to reject any or all bids and/or withdraw an offer to lease an area, even after bids have been submitted.

(5) Issuance of a Lease: Following the selection of any winning bid by BOEM, the successful bidder would be notified of the decision and provided a set of official lease documents for execution. Any successful bidder would be required to sign and return the lease, pay the remainder of the bonus bid, if applicable, and file the required financial assurance within 10 business days of receiving the lease documents. Upon receipt of the required payments, financial assurance, and properly signed lease forms, BOEM may execute a lease with the successful bidder.

3.3 Noncompetitive Leasing Process

BOEM's noncompetitive leasing process would include the following steps:

(1) Determination of No Competitive Interest: If, after evaluating all relevant information, including responses to this Call, BOEM determines there is no competitive interest in all or a portion of the Call Areas, it may proceed with the noncompetitive lease issuance process pursuant to 30 CFR 585.231 and 232. BOEM would seek to determine if the sole respondent, who nominated a particular area, intends to proceed with acquiring the lease; if so, the respondent would be required to submit an acquisition fee as specified in 30 CFR 585.502(a). After receiving the acquisition fee, BOEM would follow the process outlined in 30 CFR 585.231(d) through (i), which would include the publication of a Determination of No Competitive Interest in the Federal Register.

(2) Review of Lease Request: BOEM would comply with the relevant requirements of NEPA, CZMA, ESA, NHPA and other applicable Federal statutes before issuing a lease noncompetitively. Further, BOEM would coordinate and consult, as appropriate, with relevant Federal agencies, other affected or interested parties, and affected state and local governments in formulating lease terms, conditions, and stipulations.

(3) Lease Issuance: After completing its review of the lease request, BOEM may offer a noncompetitive lease. Within 10 business days of receiving the lease, the lessee must execute it and provide a $100,000 lease-specific bond, pursuant to 30 CFR 585.515, to guarantee compliance with all terms and conditions of the lease. Within 45 days of receiving the lease, the lessee must pay BOEM the first 12 months' rent.

4 Development of the Call Areas

BOEM delineated the Call Areas in consultation with several parties, including the State of California and the Task Force. In coordination with the State of California, BOEM held multiple stakeholder outreach meetings in northern and central California to obtain input into the development of the Call Areas and gather data and information to use in BOEM's decision making process. More information on these meetings can be found in this notice under “Offshore Wind Energy Planning Efforts in California.” The Call Areas represent portions of the OCS that BOEM has identified to solicit information and nominations so that potential use conflicts can be analyzed and considered in the Area ID stage of the leasing process. During the process of delineating the California Call Areas, BOEM determined that the following areas would not be appropriate for leasing and development at this time:

1. Areas in water depths beyond 1,100 meters. Based on a National Renewable Energy Laboratory (NREL) technical report (NREL, TP-6A20-55049, Improved Offshore Wind Resource Assessment in Global Climate Stabilization Scenarios, 2012), BOEM considers 1,100 meters to be a reasonable limit on water depth based on technological feasibility at this time.

2. National Marine Sanctuaries. BOEM lacks the authority to lease within the boundaries of National Marine Sanctuaries, and removed these areas offshore California from consideration, including: Greater Farallones, Cordell Bank, Monterey Bay, and Channel Islands National Marine Sanctuaries.

3. Areas on the OCS that have wind speeds estimated at less than 7 meters per second. These areas were excluded based on a NREL's 2016 Offshore Wind Energy Resource Assessment for the United States, available at: www.nrel.gov/docs/fy16osti/66599.pdf.

4. Nearshore areas with high levels of fishing activity. BOEM recognizes that several commercial and recreational fisheries operate within, or in proximity to, the Call Areas. Fishing industry representatives have provided comments and information to BOEM during meetings and discussions during outreach in 2017 and 2018. Based on these discussions thus far, and data and information gathered during the offshore wind energy planning efforts, areas closer to shore tend to have higher concentrations of commercial and recreational fishing activities and were removed from consideration for leasing. Fishing information, including maps and spatially represented data, gathered during the offshore wind energy planning process is available online at: https://databasin.org/galleries/ae21ddeb4fd642f1a382f96adc898dbe. BOEM will continue with outreach to the fishing industry throughout the leasing and planning process. BOEM is requesting additional information regarding recreational and commercial fisheries that operate within the Call Areas and will consider that information at the Area Identification stage of its planning process. If BOEM concludes that fisheries conflicts cannot be properly mitigated in certain portions of the Call Areas, it may exclude those areas from leasing consideration at the Area Identification stage, during the environmental review process under NEPA, and as a result of essential fish habitat consultations under the Magnuson Stevens Fishery Conservation and Management Act. BOEM may also require measures to mitigate or avoid fishery conflicts at the construction and operations phase of the regulatory process.

5. High concentrations of undersea cables. BOEM removed from consideration, at this time, the portion of the OCS offshore Morro Bay that has a large concentration of undersea cables. Information, including a map of these cable locations, is available online at: https://databasin.org/maps/706cd85b8b2b4d1dbeb7eba7b68cb934/active.

6. Santa Barbara Channel. BOEM removed the OCS blocks adjacent to the entrance and exit of the Santa Barbara Channel due to vessel traffic transiting the Port of Los Angeles/Long Beach (LA/LB) based on automated identification system (AIS) vessel information provided to BOEM from the U.S. Coast Guard (USCG). These blocks include all OCS sub-blocks that overlap with a 1 nautical mile buffer along all outer edges and a 5 nautical mile buffer at the entrances and exits of the Santa Barbara Channel Traffic Separation Scheme. BOEM coordinates with the USCG on navigational issues and will continue its engagement through all phases of its leasing process. Pending the outcome of further analysis, BOEM may decide not offer some portions of the Call Areas for leasing or development based on information provided in response to the Call regarding safety concerns and historic routes of vessel traffic. AIS vessel traffic information is available online at: https://databasin.org/maps/new#datasets=422db447c151412d918a3085b31429f8.

Conversely, BOEM gave preference to areas within close proximity to existing transmission infrastructure that could provide for potential integration into California's existing electrical grid. These are, on the north coast, Humboldt Bay substation, and on the central coast, Morro Bay and Diablo Canyon substations. Transmission infrastructure information is available online at: https://caoffshorewind.databasin.org/datasets/45590a5de70b4cf7863bf79f3c444030.

BOEM also endeavored to exclude from Call Areas those places where preliminary analysis indicated the presence of high concentrations of marine mammal and avian species potentially impacted by offshore wind development. These preliminary analyses were based on data found online at: https://caoffshorewind.databasin.org/galleries/e1e3eab6e86446e7905c824474f70428#expand=136932. BOEM is presently working with partners developing new environmental datasets and modeling tools, and will further analyze and assess data received in response to the Call during its Area Identification process. BOEM will utilize information received in response to the Call to assist with verification of migratory periods, persistent or seasonally occurring oceanic habitat features associated with marine birds, mammals, sea turtles, and fish, and periods of high species abundance or diversity that may occur within the Call Areas. BOEM will consider the best available information to identify and assess potential areas of conflict with marine protected species within the Call Areas and consult with resource agencies during the Area Identification process, as necessary.

BOEM's subsequent analysis during Area Identification will evaluate the Call Areas for their appropriateness for offshore wind development, balanced against potential ocean user conflicts. After conducting environmental reviews and associated consultations, analyzing public comments, and continuing to coordinate with other government agencies through the Task Force, BOEM anticipates developing and requiring terms and conditions at the leasing, site assessment, and/or construction and operations phases of its leasing process to avoid or lessen impacts. This Call will allow stakeholders to provide additional input on these areas prior to further modification during the Area Identification process.

4.1 Department of Defense

The Department of Defense (DoD) conducts offshore testing, training, and operations within all or portions of the Call Areas. BOEM is working with DoD to determine potential compatible areas or mitigating measures between military activities and offshore wind development areas. While conflicting uses may require some areas of the OCS to be deferred from leasing, development in other areas where military activities occur may eventually be compatible with conditions and stipulations. These stipulations could include, but may not be limited to: Hold and save harmless agreements; mandatory coordination with DoD on specified activities; restrictions on electromagnetic emissions; curtailment of wind farm operations during specific DoD events; and evacuation procedures from the lease area for safety reasons when notified by the DoD. Interested parties should also be aware that the Morro Bay and Diablo Canyon Call Areas on the central coast contain OCS blocks that have been assessed as incompatible with wind energy development by DoD. DoD is currently reviewing additional detailed project information supplied by the offshore wind energy industry to determine if any of the areas previously identified by DoD as incompatible in the Morro Bay Call Area may be identified as compatible after further analyses. The Diablo Canyon area is heavily utilized by multiple DoD components and based upon current and future expected use, previous assessments have found development there to be incompatible with the wide array of critical DoD activities. The Humboldt Call Area on the north coast is currently designated as “Site-Specific Stipulations” by DoD. This designation means DoD may recommend additional mitigation measures, but does not presently deem offshore wind to be incompatible with its missions.

5 Description of the Area

The Humboldt, Morro Bay, and Diablo Canyon. These Call Areas include 85 whole OCS blocks and 573 partial blocks in total, and comprise approximately 1,073 square statute miles (mi) (687,823 acres). A map of the Call Areas, and associated GIS files, which are located in UTM Zone 10N, NAD 83 Datum, can be found at the following URL: https://www.boem.gov/California/.

Call Area Humboldt

The boundary of Call Area Humboldt begins at 21 mi offshore the city of Eureka in northern California. The area is about 28 mi in length from north to south and about 14 mi in width from east to west. The entire area is approximately 206 square mi (132,369 acres) and is described in the table below:

Protraction name | Protraction No. | Block No. | Sub-block
Crescent City | NK10-07 | 6975 | I, J, K, L, M, N, O, P.
Crescent City | NK10-07 | 6976 | B, C, F, G, I, J, K, M, N, O.
Crescent City | NK10-07 | 7023 | L, M, N, O, P.
Crescent City | NK10-07 | 7024 | C, D, E, F, G, H, I, J, K, L, M, N, O, P.
Crescent City | NK10-07 | 7025 | All.
Crescent City | NK10-07 | 7026 | A, B, C, E, F, G, I, J, K, M, N, O.
Crescent City | NK10-07 | 7072 | D, G, H, K, L, O, P.
Crescent City | NK10-07 | 7073 | All.
Crescent City | NK10-07 | 7074 | All.
Crescent City | NK10-07 | 7075 | All.
Crescent City | NK10-07 | 7076 | A, B, C, E, F, G, I, J, K, M, N, O.
Crescent City | NK10-07 | 7122 | C, D, G, H, J, K, L, O, P.
Crescent City | NK10-07 | 7123 | All.
Crescent City | NK10-07 | 7124 | All.
Crescent City | NK10-07 | 7125 | All.
Crescent City | NK10-07 | 7126 | A, B, C, E, F, G, H, I, J, K, L, M, N, O, P.
Eureka | NK10-10 | 6023 | D.
Eureka | NK10-10 | 6024 | A, B, C, D, E, F, G, H, I, J, K, L, N, O, P.
Eureka | NK10-10 | 6025 | All.
Eureka | NK10-10 | 6026 | All.
Eureka | NK10-10 | 6027 | A, B, C, D, E, F, G, H, I, J, K, M, N.
Eureka | NK10-10 | 6074 | B, C, D, G, H, K, L, O, P.
Eureka | NK10-10 | 6075 | All.
Eureka | NK10-10 | 6076 | All.
Eureka | NK10-10 | 6077 | A, B, E.
Eureka | NK10-10 | 6124 | D, H.
Eureka | NK10-10 | 6125 | All.
Eureka | NK10-10 | 6126 | A, B, C, E, F, G, I, J, K, M, N.
Eureka | NK10-10 | 6175 | All.
Eureka | NK10-10 | 6176 | A, B, E, I.
Eureka | NK10-10 | 6225 | A, B, C, D, E, F, G, I, J, K, M, N.
Eureka | NK10-10 | 6275 | A, B.

Call Area Morro Bay

The boundary of Call Area Morro Bay begins 24 mi offshore Cambria, California. The area is about 27 mi in length from north to south and about 27 mi in width from east to west. The entire area is approximately 311 square mi (199,266 acres) and is described in the table below:

Protraction name | Protraction No. | Block No. | Sub-block
San Luis Obispo | NI10-03 | 6102 | L, P.
San Luis Obispo | NI10-03 | 6103 | M.
San Luis Obispo | NI10-03 | 6152 | D, L, P.
San Luis Obispo | NI10-03 | 6153 | A, B, E, F, I, J, K, M, N, O.
San Luis Obispo | NI10-03 | 6202 | D, G, H, K, L, N, O, P.
San Luis Obispo | NI10-03 | 6203 | All.
San Luis Obispo | NI10-03 | 6204 | I, M.
San Luis Obispo | NI10-03 | 6251 | D, H, K, L, O, P.
San Luis Obispo | NI10-03 | 6252 | All.
San Luis Obispo | NI10-03 | 6253 | All.
San Luis Obispo | NI10-03 | 6254 | A, B, E, F, G, I, J, K, L, M, N, O, P.
San Luis Obispo | NI10-03 | 6301 | C, D, G, H, K, L, M, O, P.
San Luis Obispo | NI10-03 | 6302 | All.
San Luis Obispo | NI10-03 | 6303 | All.
San Luis Obispo | NI10-03 | 6304 | All.
San Luis Obispo | NI10-03 | 6305 | A, E, I, M.
San Luis Obispo | NI10-03 | 6351 | All.
San Luis Obispo | NI10-03 | 6352 | All.
San Luis Obispo | NI10-03 | 6353 | All.
San Luis Obispo | NI10-03 | 6354 | All.
San Luis Obispo | NI10-03 | 6355 | A, B, E, F, I, J, M, N.
San Luis Obispo | NI10-03 | 6401 | All.
San Luis Obispo | NI10-03 | 6402 | All.
San Luis Obispo | NI10-03 | 6403 | All.
San Luis Obispo | NI10-03 | 6404 | All.
San Luis Obispo | NI10-03 | 6405 | A, B, E, F, G, I, J, K, L, M, N, O, P.
San Luis Obispo | NI10-03 | 6406 | M.
San Luis Obispo | NI10-03 | 6451 | A, B, C, D, E, F, G, H, I, J, K, L, N, O, P.
San Luis Obispo | NI10-03 | 6452 | All.
San Luis Obispo | NI10-03 | 6453 | All.
San Luis Obispo | NI10-03 | 6454 | All.
San Luis Obispo | NI10-03 | 6455 | All.
San Luis Obispo | NI10-03 | 6456 | A, B, E, F, G, H, I, J, K, L, M, N, O, P.
San Luis Obispo | NI10-03 | 6457 | E, F, I, J, M, N, O.
San Luis Obispo | NI10-03 | 6501 | B, C, D, G, H.
San Luis Obispo | NI10-03 | 6502 | A, B, C, D, E, F, G, H, I, J, K, L.
San Luis Obispo | NI10-03 | 6503 | A, B, C, D, E, F, G, H, I, K, L.
San Luis Obispo | NI10-03 | 6504 | All.
San Luis Obispo | NI10-03 | 6505 | All.
San Luis Obispo | NI10-03 | 6506 | All.
San Luis Obispo | NI10-03 | 6507 | All.
San Luis Obispo | NI10-03 | 6508 | I, M, N.
San Luis Obispo | NI10-03 | 6554 | D.
San Luis Obispo | NI10-03 | 6555 | A, B, C, D, G, H.
San Luis Obispo | NI10-03 | 6556 | A, B, C, D, E, F, G, H.
San Luis Obispo | NI10-03 | 6557 | A, B, C, D, E, F, G, H.
San Luis Obispo | NI10-03 | 6558 | A, B, C, E, F, G, H.
Sur Canyon | NI10-02 | 6340 | O, P.
Sur Canyon | NI10-02 | 6390 | B, C, D, F, G, H, J, K, L, M, N, O, P.
Sur Canyon | NI10-02 | 6440 | A, B, C, D, F, G, H, J, K, L, N, O, P.
Sur Canyon | NI10-02 | 6490 | C, D, H.

Call Area Diablo Canyon

The boundary of Call Area Diablo Canyon begins 22 mi offshore Los Osos, California. The area is about 23 mi in length from north to south and about 30 mi in width from east to west. The entire area is approximately 556 square mi (356,188 acres) and is described in the table below:

Protraction name | Protraction No. | Block No. | Sub-block
San Luis Obispo | NI10-03 | 6756 | M, N, O, P.
San Luis Obispo | NI10-03 | 6757 | M, N, O, P.
San Luis Obispo | NI10-03 | 6758 | M, N, O, P.
San Luis Obispo | NI10-03 | 6759 | M, N, O, P.
San Luis Obispo | NI10-03 | 6760 | M, N, O, P.
San Luis Obispo | NI10-03 | 6761 | M, N, O, P.
San Luis Obispo | NI10-03 | 6762 | M, N, O, P.
San Luis Obispo | NI10-03 | 6763 | M, N, O, P.
San Luis Obispo | NI10-03 | 6764 | M.
San Luis Obispo | NI10-03 | 6806 | A, B, C, D, F, G, H, J, K, L, N, O, P.
San Luis Obispo | NI10-03 | 6807 | All.
San Luis Obispo | NI10-03 | 6808 | All.
San Luis Obispo | NI10-03 | 6809 | All.
San Luis Obispo | NI10-03 | 6810 | All.
San Luis Obispo | NI10-03 | 6811 | All.
San Luis Obispo | NI10-03 | 6812 | All.
San Luis Obispo | NI10-03 | 6813 | All.
San Luis Obispo | NI10-03 | 6814 | A, E, I, M.
San Luis Obispo | NI10-03 | 6856 | C, D, G, H, K, L, P.
San Luis Obispo | NI10-03 | 6857 | All.
San Luis Obispo | NI10-03 | 6858 | All.
San Luis Obispo | NI10-03 | 6859 | All.
San Luis Obispo | NI10-03 | 6860 | All.
San Luis Obispo | NI10-03 | 6861 | All.
San Luis Obispo | NI10-03 | 6862 | All.
San Luis Obispo | NI10-03 | 6863 | All.
San Luis Obispo | NI10-03 | 6864 | A, B, E, F, I, J, M, N.
San Luis Obispo | NI10-03 | 6906 | D, H.
San Luis Obispo | NI10-03 | 6907 | All.
San Luis Obispo | NI10-03 | 6908 | All.
San Luis Obispo | NI10-03 | 6909 | All.
San Luis Obispo | NI10-03 | 6910 | All.
San Luis Obispo | NI10-03 | 6911 | All.
San Luis Obispo | NI10-03 | 6912 | All.
San Luis Obispo | NI10-03 | 6913 | All.
San Luis Obispo | NI10-03 | 6914 | A, B, C, E, F, G, I, J, K, M, N, O, P.
San Luis Obispo | NI10-03 | 6957 | A, B, C, D, E, F, G, H, J, K, L, N, O, P.
San Luis Obispo | NI10-03 | 6958 | All.
San Luis Obispo | NI10-03 | 6959 | All.
San Luis Obispo | NI10-03 | 6960 | All.
San Luis Obispo | NI10-03 | 6961 | All.
San Luis Obispo | NI10-03 | 6962 | All.
San Luis Obispo | NI10-03 | 6963 | All.
San Luis Obispo | NI10-03 | 6964 | All.
San Luis Obispo | NI10-03 | 6965 | A, E, F, I, J, K, M, N, O.
San Luis Obispo | NI10-03 | 7007 | C, D, H.
San Luis Obispo | NI10-03 | 7008 | All.
San Luis Obispo | NI10-03 | 7009 | All.
San Luis Obispo | NI10-03 | 7010 | All.
San Luis Obispo | NI10-03 | 7011 | All.
San Luis Obispo | NI10-03 | 7012 | All.
San Luis Obispo | NI10-03 | 7013 | All.
San Luis Obispo | NI10-03 | 7014 | All.
San Luis Obispo | NI10-03 | 7015 | All.
San Luis Obispo | NI10-03 | 7016 | I, M.
San Luis Obispo | NI10-03 | 7058 | A, B, C, D, F, G, H, J, K, L, O, P.
San Luis Obispo | NI10-03 | 7059 | All.
San Luis Obispo | NI10-03 | 7060 | All.
San Luis Obispo | NI10-03 | 7061 | All.
San Luis Obispo | NI10-03 | 7062 | All.
San Luis Obispo | NI10-03 | 7063 | All.
San Luis Obispo | NI10-03 | 7064 | All.
San Luis Obispo | NI10-03 | 7065 | All.
San Luis Obispo | NI10-03 | 7066 | A, E, I, M.
San Luis Obispo | NI10-03 | 7108 | C, D, G, H, K, L, N, O, P.
San Luis Obispo | NI10-03 | 7109 | All.
San Luis Obispo | NI10-03 | 7110 | All.
San Luis Obispo | NI10-03 | 7111 | All.
San Luis Obispo | NI10-03 | 7112 | All.
San Luis Obispo | NI10-03 | 7113 | All.
San Luis Obispo | NI10-03 | 7114 | All.
San Luis Obispo | NI10-03 | 7115 | All.
San Luis Obispo | NI10-03 | 7116 | A, E, I, M.
Santa Maria | NI10-06 | 6008 | B, C, D, F, G, H.
Santa Maria | NI10-06 | 6009 | A, B, C, D, E, F, G, H.
Santa Maria | NI10-06 | 6010 | A, B, C, D, E, F, G, H.
Santa Maria | NI10-06 | 6011 | A, B, C, D, E, F, G, H.
Santa Maria | NI10-06 | 6012 | A, B, C, D, E, F, G, H.
Santa Maria | NI10-06 | 6013 | A, B, C, D, E, F, G, H.
Santa Maria | NI10-06 | 6014 | A, B, C, D, E, F, G, H.
Santa Maria | NI10-06 | 6015 | A, B, C, D, E, F, G, H.
Santa Maria | NI10-06 | 6016 | A, E.

6 Requested Information From Interested or Affected Parties

BOEM requests specific and detailed comments from the public and other interested or affected parties regarding the following features, activities, or concerns in or around Call Areas:

1. Geological, geophysical, and biological conditions (including bottom and shallow hazards and live bottom).

2. Known archaeological and/or cultural resource sites on the seabed.

3. Historic properties potentially affected by site characterization (surveys), site assessment (buoy installation), or commercial wind development. This information will inform BOEM's review of future undertakings under Section 106 of the NHPA and under NEPA.

4. Other uses, including navigation (in particular, commercial and recreational vessel use), recreation, and fisheries (commercial and recreational).

5. Additional information regarding recreational and commercial fisheries including, but not limited to, the use of the areas, the fishing gear types used, seasonal use, and recommendations for reducing use conflicts.

6. Available and pertinent data and information concerning renewable energy resources and environmental conditions. Where applicable, spatial information should be submitted in a format compatible with ArcGIS 10.5 in a geographic coordinate system (NAD 83).

7. Information relating to visual resources and aesthetics, the potential impacts of wind turbines to those resources, and potential strategies to help mitigate or minimize any visual effects.

8. Other relevant socioeconomic, biological, and environmental information.

9. Any other relevant information BOEM should consider during its planning and decision-making process for the purpose of issuing leases in the Call Area.

7 Required Nomination Information

If you intend to submit one or more nominations for a commercial wind energy lease within any Call Areas identified in this notice, you must provide the following information for each nomination:

1. The BOEM Protraction name, number, and specific whole or partial OCS blocks within the Call Area(s) that you are interested in leasing, inclusive of any potential buffers with adjacent leases. This information should be submitted as a spatial file compatible with ArcGIS 10.5 in a geographic coordinate system (NAD 83) in addition to your hard copy submittal. If your nomination includes one or more partial blocks, please describe those partial blocks in terms of a sixteenth (i.e., sub-block) of an OCS block.

2. A description of your objectives and the facilities that you would use to achieve those objectives.

3. A preliminary schedule of proposed activities, including those leading to commercial operations.

4. Available and pertinent data and information concerning renewable energy resources and environmental conditions in the area(s) that you wish to lease, including energy and resource data and information used to evaluate the area. Where applicable, spatial information should be submitted in a format compatible with ArcGIS 10.5 in a geographic coordinate system (NAD 83).

5. Documentation demonstrating that you are legally qualified to hold a lease in accordance with the requirements of forth in 30 CFR 585.106 and 585.107(c). Examples of the documentation appropriate for demonstrating your legal qualifications and related guidance can be found in Chapter 2 and Appendix B of the BOEM Renewable Energy Framework Guide Book available at: http://www.boem.gov/REnGuidebook_03/. The documents you provide to demonstrate your qualifications to lease will be placed in a file kept by BOEM that may be made available for public review. If you wish that any part of your legal qualification documentation be kept confidential, clearly identify what should be kept confidential, and submit it under separate cover (see “Protection of Privileged or Confidential Information Section,” below).

6. Documentation demonstrating that you are technically and financially capable of constructing, operating, maintaining, and decommissioning the facilities described in (2) above, in accordance with the requirements of 30 CFR 585.107(a). Guidance regarding the documentation to demonstrate your technical and financial qualifications can be found at: http://www.boem.gov/Renewable-Energy-Program/Regulatory-Information/QualificationGuidelines-pdf.aspx. Any documentation you submit to demonstrate your legal, technical, and financial qualifications must be provided to BOEM in both paper and electronic formats. BOEM considers an Adobe PDF file on a storage media device to be an acceptable format for an electronic copy.

You are not required to submit a nomination in response to this Call in order to participate in a potential future competitive lease sale offshore California. You will not be able to participate in such a competitive lease sale, however, unless you demonstrate prior to the sale that you are legally, technically, and financially qualified to hold a BOEM renewable energy lease. To ensure that BOEM has sufficient time to process your qualifications package, you should submit this package during the PSN 60-day public comment period. More information can be found at: http://www.boem.gov/Renewable-Energy-Program/Regulatory-Information/QualificationGuidelines-pdf.aspx.

8 Protection of Privileged or Confidential Information

8.1 Freedom of Information Act

BOEM will not disclose privileged or confidential information that you submit if it qualifies for when required by the Freedom of Information Act (FOIA) exemption for trade secrets and commercial or financial information provided that you clearly label the submission with “Contains Confidential Information” and request that BOEM treat it as confidential. Please consider submitting such information as a separate attachment.

BOEM will not treat as confidential any aggregate summaries of such information or comments not containing such confidential or privileged information. Additionally, BOEM will not treat as confidential (1) the legal title of the nominating entity (for example, the name of your company), or (2) the list of whole or partial blocks that you are nominating. Information that is not labeled as privileged or confidential will be regarded by BOEM as suitable for public release.

8.2 Personal Identifying Information

BOEM does not consider anonymous comments; please include your name and address as part of your submittal. You should be aware that your entire comment, including your name, address, and your personal identifying information, may be made publicly available at any time. All submissions from identified individuals, businesses and organizations will be available for public viewing on regulations.gov. In order for BOEM to withhold from disclosure your personal identifying information, you must identify any information contained in the submittal of your comments that, if released, would constitute a clearly unwarranted invasion of your personal privacy. You must also briefly describe any possible harmful consequence of the disclosure of information, such as embarrassment, injury or other harm.

8.3 Section 304 of the National Historic Preservation Act (16 U.S.C. 470w-3(a))

BOEM is required, after consultation with the Secretary, to withhold the location, character, or ownership of historic resources if it determines that disclosure may, among other things, risk harm to the historic resources or impede the use of a traditional religious site by practitioners. Tribal entities should designate information that falls under Section 304 of NHPA as confidential.

Dated: October 15, 2018.
Walter D. Cruickshank,
Acting Director, Bureau of Ocean Energy Management.

[FR Doc. 2018-22879 Filed 10-18-18; 8:45 am]

BILLING CODE 4310-MR-P